DEPARTMENT OF TRANSPORTATION

Federal Motor Carrier Safety Administration

[Docket No. FMCSA-2005-22650]

Agency Information Collection Activities; Request for Comment; Clearance of a New Information Collection: Commercial Driver's License Policies and Practices Among the 51 Jurisdictions

AGENCY: Federal Motor Carrier Safety Administration (FMCSA), DOT.

ACTION: Notice and request for comments.

SUMMARY: This notice advises the public about FMCSA's intention to request Office of Management and Budget (OMB) approval for a new information collection concerning the Commercial Driver's License (CDL) policies and practices among the 50 States and the District of Columbia (referred to as the 51 jurisdictions). This information is needed to identify where problems exist within the CDL Program and how to address those problems through new or revised safety initiatives. This notice is required by the Paperwork Reduction Act of 1995.

DATES: Comments must be submitted on or before December 27, 2005.

ADDRESSES: All comments should reference Docket No. FMCSA-2005-22650. You may mail or hand deliver comments to the U.S. Department of Transportation, Dockets Management Facility, Room PL-401, 400 Seventh Street, SW., Washington, DC 20590; telefax comments to 202/493-2251; or submit electronically at http://dms.dot.gov.

You may examine and copy all comments received at the above address between 9 a.m. and 5 p.m., Monday through Friday, except Federal holidays. If you desire your comment to be acknowledged, you must include a self-addressed stamped envelope or postcard or, if you submit your comments electronically, you may print the acknowledgment.

FOR FURTHER INFORMATION CONTACT: Ms. Glenda Davis, phone (202) 366-5209; FAX (202) 366-7298; or e-mail glenda.davis@fmcsa.dot.gov; Federal Motor Carrier Safety Administration, DOT, 400 Seventh Street, SW., Washington, DC 20590. For additional information and copies of the information collection instrument and instructions, contact Ms. Lorena F. Truett, National Transportation Research Center, 2360 Cherahala Boulevard, Room I-32, Knoxville, TN 37932; phone (865) 946-1306; FAX (865) 946-1314; or e-mail: TruettLF@ornl.gov. Office hours are from 8:30 a.m. to 5 p.m., Monday through Friday, except Federal Holidays.

SUPPLEMENTARY INFORMATION: Title: Commercial Driver's License Policies and Practices Among the 51 Jurisdictions.

OMB Control No: 2126-XXXX.

Background: In 1986, the Commercial Motor Vehicle Safety Act (CMVSA) (Public Law 99-570, Title XII, 100 Stat. 3207-170 (October 27, 1986)) was passed in an effort to improve highway safety as it related to commercial motor vehicle drivers. The CDL program was created as a result of that Act. The Motor Carrier Safety Improvement Act (MCSIA) of 1999 (Public Law 106-159,113 Stat. 1748 (December 9, 1999)) further strengthened the CDL Program through more vehicle and driver inspections and carrier compliance reviews, stronger enforcement, expedited completion of rules, and effective CDL testing, record keeping, and sanctions. The goal of both the CMVSA and MCSIA was to improve highway safety by ensuring that drivers of commercial vehicles were qualified to operate those vehicles and to remove unsafe and unqualified drivers from the highways.

The Federal Motor Carrier Safety Administration (FMCSA), within the U.S. Department of Transportation (DOT), conducts Compliance Reviews (CRs) of the 50 States and the District of Columbia in Washington, DC, to ensure that the States are complying with the Federal Motor Carrier Safety Regulations (FMCSRs). Additional objectives of the State CRs include the following: identifying technical, operational, and administrative deficiencies in State CDL programs; establishing a mechanism for identifying and correcting serious program deficiencies; and identifying opportunities for CDL fraud.

FMCSA conducted CRs on every State. Based on the results of the State CRs, some States had fewer compliance issues than others. It appears, however, that each State was in non-compliance to some degree at the time the CR was conducted in the State. It is necessary for FMCSA to understand why the States are in non-compliance. While there is anecdotal evidence that the fault may lie with the various processes within the States, or a failure by FMCSA to provide adequate guidance, or even with the Federal regulations, there has been no systematic effort to determine the cause of State non-compliance with the CDL requirements. For FMCSA to find a solution which brings the States into compliance with the CDL Federal regulations and increases commercial-vehicle safety, FMCSA must obtain input from the States.

The primary means for obtaining information from the State officials will be via a password-protected Web site. In the introduction (“welcome screen”) to the questionnaire, the respondent will be provided alternatives for taking the survey via a paper copy or over the phone with an FMCSA contractor. If the respondent indicates a preference for the paper copy or phone survey, arrangements will be made for administering the survey in the desired format. In addition, any respondents who prefer to be interviewed via a phone call will also be provided an e-mail address so they may submit additional comments if desired.

Respondents: Each of the 51 jurisdictions (50 States plus the District of Columbia) will be contacted.

Frequency: Once.

Estimated Average Burden per Response: 1 hour per response.

Estimated Total Annual Burden Hours: 51 hours (51 jurisdictions x 1 hour per response).

Public Comments Invited

You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize and/or include your comments in the request for OMB's clearance of this information collection.

Authority: The Paperwork Reduction Act of 1995, 44 U.S.C. Chapter 35, as amended; Pub. L. 99-570, Title XII, 100 Stat. 3207-170 (October 27, 1986); Pub. L. 106-159, 113 Stat. 1748 (December 9, 1999); and 49 CFR § 1.73.

Issued on: October 21, 2005.
Annette M. Sandberg,
Administrator.

[FR Doc. 05-21397 Filed 10-25-05; 8:45 am]

BILLING CODE 4910-EX-P